DEPARTMENT OF TRANSPORTATION

Federal Motor Carrier Safety Administration

[Docket No. FMCSA-2011-0097]

Acceptance of Applications for Mexican-Domiciled Long-Haul Operations

AGENCY: Federal Motor Carrier Safety Administration, DOT.

ACTION: Notice.

SUMMARY: The United States-Mexico Cross-Border Long-Haul Trucking Pilot Program (Pilot Program) concluded on October 10, 2014. The Pilot Program was part of FMCSA's implementation of the North American Free Trade Agreement (NAFTA) cross-border long-haul trucking provisions. Congress required the Pilot Program to test the safety of granting long-haul authority to Mexico-domiciled motor carriers. This notice announces that the U.S. Department of Transportation (DOT) has submitted the required report to Congress and is accepting applications from Mexico-domiciled motor carriers interested in conducting long-haul operations.

DATES: This decision is effective January 15, 2015.

ADDRESSES: Docket: For access to the docket to read background documents or comments submitted to previous notices concerning the Pilot Program, go to www.regulations.gov at any time or visit Room W12-140 on the ground level of the West Building, 1200 New Jersey Avenue SE., Washington, DC, between 9 a.m. and 5 p.m., ET, Monday through Friday, except Federal holidays. The on-line Federal document management system is available 24 hours each day, 365 days each year. The docket number is FMCSA-2011-0097.

FOR FURTHER INFORMATION CONTACT: Bryan Price, Chief, North American Borders Division, Federal Motor Carrier Safety Administration, 1200 New Jersey Avenue SE., Washington, DC 20590-0001. Telephone (202) 366-2995; email Bryan.Price@dot.gov.

SUPPLEMENTARY INFORMATION: From October 14, 2011, to October 10, 2014, FMCSA conducted a Pilot Program to test and demonstrate the ability of Mexico-based motor carriers to operate safely in the United States beyond the municipalities and commercial zones along the United States-Mexico border. The Pilot Program was part of FMCSA's implementation of the North American Free Trade Agreement (NAFTA) cross-border long-haul trucking provisions.

As of October 10, 2014, 13 Mexico-domiciled motor carriers with authority to operate in the United States beyond the commercial zones and municipalities at the U.S.-Mexico border had successfully participated in the Pilot Program and established a record of safety.

On October 10, 2014, FMCSA issued new certificates of operating authority registration to the 13 Pilot Program participants pursuant to 49 U.S.C. 13902(a) and (c),¹ the November 27, 2002 Memorandum of the President of the United States to the Secretary of Transportation [67 FR 71795 (December 2, 2002)] and the motor carriers' successful performance in the Pilot Program.²

¹ Including compliance with Section 350 of the Fiscal Year 2002 DOT Appropriations Act, (Pub. L. 104-87), which has been incorporated in successive appropriations legislation.

² Pursuant to the procedures noted in 76 FR 40420 (July 8, 2011).

On October 10, 2014, the Department verbally advised Congress of the completion of the Pilot Program. On January 9, 2015, DOT submitted its report titled, “United States-Mexico Cross-Border Long-Haul Trucking Pilot Program Report to Congress” to the House and Senate Committees on Appropriations as well as the Senate Committee on Commerce, Science and Transportation and the House of Representatives' Committee on Transportation and Infrastructure. A copy of the report is posted in the docket for this program (FMCSA-2011-0097) and the Agency posted a link to the docket on the Pilot Program's Web site at: http://www.fmcsa.dot.gov/international-programs/mexico-cross-border-trucking-pilot-program.

As a result of the successful completion of the Pilot Program, FMCSA will again accept applications from Mexico-domiciled motor carriers seeking authority to operate in long-haul transportation beyond the U.S. commercial zones. Information regarding the application and review processes is available at http://www.fmcsa.dot.gov/registration/form-op-1mx.

Issued on: January 9, 2015.
T.F. Scott Darling, III,
Acting Administrator.

[FR Doc. 2015-00555 Filed 1-14-15; 8:45 am]

BILLING CODE 4910-EX-P